DEPARTMENT OF TRANSPORTATION

Pipeline and Hazardous Materials Safety Administration

49 CFR Part 171

[Docket No. PHMSA-2005-23141 (HM-215F)]

RIN 2137-AE01

Hazardous Materials: Revision and Reformatting of Requirements for the Authorization To Use International Transport Standards and Regulations; Correction

AGENCY: Pipeline and Hazardous Materials Safety Administration (PHMSA), DOT.

ACTION: Final rule; correction.

SUMMARY: On May 3, 2007, PHMSA published a final rule to amend the Hazardous Materials Regulations (HMR; Parts 171-180) by revising and consolidating the requirements applicable to the use of the International Civil Aviation Organization's Technical Instructions for the Safe Transport of Dangerous Goods by Air, the International Maritime Dangerous Goods Code, the Canadian Transport of Dangerous Goods Regulations, and the International Atomic Energy Agency Safety Standards Series: Regulations for the Safe Transport of Radioactive Material. This rule corrects errors in the final rule.

DATES: Effective date: September 28, 2007.

FOR FURTHER INFORMATION CONTACT: Joan McIntyre or Kurt Eichenlaub, Office of Hazardous Materials Standards, (202) 366-8553, Pipeline and Hazardous Materials Safety Administration, U.S. Department of Transportation, 1200 New Jersey Avenue, SE., Washington, DC 20590-0001.

SUPPLEMENTARY INFORMATION:

Background

On May 3, 2007, the Pipeline and Hazardous Materials Safety Administration (PHMSA, we) published a final rule under Docket No. PHMSA-2005-23141 (HM-215F) to amend the Hazardous Materials Regulations (HMR; 49 CFR Parts 171-180) by revising and consolidating the requirements applicable to the use of the International Civil Aviation Organization's Technical Instructions for the Safe Transport of Dangerous Goods by Air, the International Maritime Dangerous Goods Code, the Canadian Transport of Dangerous Goods Regulations, and the International Atomic Energy Agency Safety Standards Series: Regulations for the Safe Transport of Radioactive Material. The final rule is effective as of October 1, 2007.

The Dangerous Goods Advisory Council (DGAC), an organization of industry stakeholders, filed an appeal to the May 3 final rule on June 4, 2007. We are addressing most elements of DGAC's appeal in a separate response, which will be included in the docket for this rulemaking. In the meantime, we are issuing this correction to address certain errors that DGAC identified in the text of the May 3 final rule.

Correction

The May 5 final rule added a new § 171.22, which provides authorization and conditions for the use of international standards and regulations for the commercial transportation of hazardous materials to, from, or within the United States. Paragraph (g) of this section requires shipments to conform to applicable HMR requirements, including the general packaging requirements in §§ 173.24 and 173.24a and the reuse, reconditioning, and remanufacture requirements in § 173.28. The notice of proposed rulemaking issued under this docket on January 27, 2006 (71 FR 4544) proposed to apply these requirements “for export shipments”. The phrase “for export shipments” was inadvertently dropped from the May 3 final rule. It was not our intention to require compliance with §§ 173.24, 173.24a, or 173.28 for import shipments. Therefore, in this final rule, we are reinserting the phrase “for export shipments” in paragraphs (g)(5) and (g)(6) of § 173.22.

The DGAC appeal also identifies a typographical error in § 171.12(a)(2). Use of the term “subpart” in § 171.12(a)(2) is incorrect. This paragraph should read: “When the provisions of this subchapter require a DOT specification or UN standard packaging to be used for transporting a hazardous material, a packaging authorized by the Transport Canada TDG Regulations may be used, subject to the limitations of this part, and only if it is equivalent to the corresponding DOT specification or UN packaging (see § 173.24(d)(2) of this subchapter) authorized by this subchapter.” We are correcting the typographical error in this final rule.

Regulatory Analyses and Notices

A. Statutory/Legal Authority for This Rulemaking

This final rule is published under authority of Federal Hazardous Materials Transportation Law (Federal Hazmat Law; 49 U.S.C. 5101 et seq.). Section 5103(b) of Federal Hazmat Law authorizes the Secretary of Transportation to prescribe regulations for the safe transportation, including security, of hazardous materials in intrastate, interstate, and foreign commerce. This final rule corrects errors in a final rule published in the Federal Register on May 3, 2007.

B. Executive Order 12866 and DOT Regulatory Policies and Procedures

This final rule is not considered a significant regulatory action under section 3(f) of Executive Order 12866 and, therefore, was not reviewed by the Office of Management and Budget. This rule is not significant under the Regulatory Policies and Procedures of the Department of Transportation (44 FR 11034). There are no cost impacts associated with this final rule.

C. Executive Order 13132

This final rule has been analyzed in accordance with the principles and criteria in Executive Order 13132 (“Federalism”). This final rule does not adopt any regulation that: (1) Has substantial direct effects on the States, the relationship between the national government and the States, or the distribution of power and responsibilities among the various levels of government; (2) imposes substantial direct compliance costs on State and local governments; or (3) preempts state law. Therefore, preparation of a federalism assessment is not warranted.

D. Executive Order 13175

This final rule has been analyzed in accordance with the principles and criteria contained in Executive Order 13175 (“Consultation and Coordination with Indian Tribal Governments”). Because this final rule does not have tribal implications, does not impose substantial direct compliance costs on Indian tribal governments, and does not preempt tribal law, the funding and consultation requirements of Executive Order 13175 do not apply.

E. Regulatory Flexibility Act, Executive Order 13272, and DOT Procedures and Policies

I certify this final rule will not have a significant economic impact on a substantial number of small entities. This rule corrects a previously issued final rule by reinserting a dropped phrase and correcting a typographical error. There are no cost impacts associated with this rule.

F. Unfunded Mandates Reform Act of 1995

This rule does not impose unfunded mandates under the Unfunded Mandates Reform Act of 1995. It does not result in costs of $120.7 million or more to either State, local, or tribal governments, in the aggregate, or to the private sector, and is the least burdensome alternative that achieves the objective of the rule.

G. Paperwork Reduction Act

There are no new information collection requirements in this final rule.

H. Environmental Impact Analysis

There are no environmental impacts associated with this final rule.

I. Regulation Identifier Number (RIN)

A regulation identifier number (RIN) is assigned to each regulatory action listed in the Unified Agenda of Federal Regulations. The Regulatory Information Service Center publishes the Unified Agenda in April and October of each year. The RIN number contained in the heading of this document can be used to cross-reference this action with the Unified Agenda.

List of Subjects in 49 CFR Part 171

Exports, Hazardous materials transportation, Hazardous waste, Imports, Incorporation by reference, Reporting and recordkeeping requirements.

In consideration of the foregoing, we are making the following corrections to FR Doc. 07-1959, appearing on page 25162 in the Federal Register of Thursday, May 3, 2007:

PART 171—[CORRECTED]

1. On page 25171, in § 171.12 correct the text in paragraph (a)(2) to read as follows:

§ 171.12 North American Shipments.

(a) * * *

(2) General packaging requirements. When the provisions of this subchapter require a DOT specification or UN standard packaging to be used for transporting a hazardous material, a packaging authorized by the Transport Canada TDG Regulations may be used, subject to the limitations of this part, and only if it is equivalent to the corresponding DOT specification or UN packaging (see § 173.24(d)(2) of this subchapter) authorized by this subchapter.

* * * * *

2. On page 25173, in § 171.22, correct the text in paragraphs (g)(5) and (g)(6) to read as follows:

§ 171.22 Authorization and conditions for use of international standards and regulations.

* * * * *

(g) * * *

(5) For export shipments, the general packaging requirements in §§ 173.24 and 173.24a of this subchapter;

(6) For export shipments, the requirements for the reuse, reconditioning, and remanufacture of packagings in § 173.28 of this subchapter; and

* * * * *

Issued in Washington, DC, on September 21, 2007, under authority delegated in 49 CFR part 1.
Krista L. Edwards,
Acting Administrator.

[FR Doc. E7-19259 Filed 9-27-07; 8:45 am]

BILLING CODE 4910-60-P